DEPARTMENT OF ENERGY

Office of Energy Efficiency and Renewable Energy

Request for Information (RFI)—Photovoltaic (PV) Manufacturing Initiative

AGENCY: Office of Energy Efficiency and Renewable Energy, Department of Energy (DOE).

ACTION: Request for Information (RFI)—Photovoltaic (PV) Manufacturing Initiative.

SUMMARY: The Department of Energy (DOE) today gives notice of a Request for Information on the PV Manufacturing Initiative. The “PV Manufacturing Initiative” is intended to coordinate stakeholders and technology development efforts across the solar community to facilitate the development of a strong PV manufacturing industry in the United States. The primary goals of this initiative include supporting the creation of a robust United States-based PV manufacturing technology including infrastructure and supply chain base, developing a highly trained workforce with the critical skills required to meet the needs of a rapidly growing industry, and speeding the implementation of new cutting edge technologies.

There are three separate models currently under consideration: University-Led Consortia, Collaborative Industry-Led Consortia, and Manufacturing Development Facilities, which are described in full detail in the SUPPLEMENTARY INFORMATION section. This Request for Information (RFI) seeks comments on the general concept, potential benefits or obstacles, the overall merits of the idea, alternatives, and the relative priority of this activity. DOE will evaluate responses to this RFI to determine the best approach to move forward.

DATES: Responses to this RFI must be submitted by 11:59 PM Eastern Time on September 30, 2009.

ADDRESSES: All responses to this RFI must be delivered electronically in Microsoft Word (.doc or .docx) format as an attachment to an e-mail sent to the following e-mail address: PVManufInit@go.doe.gov. E-mails should have the subject line “PV Manufacturing Initiative Response”.

FOR FURTHER INFORMATION CONTACT: Any questions about the content of this RFI must be sent to the following e-mail address: PVManufInit@go.doe.gov. E-mails should have the subject line “Question”.

SUPPLEMENTARY INFORMATION:

Program Manager/Area

JoAnn Milliken, Acting Program Manager, Solar Energy Technologies Program, Office of Energy Efficiency and Renewable Energy.

Background and Rationale

The mission of the Department of Energy's (DOE) Solar Energy Technologies Program (SETP) is to accelerate the wide-spread adoption of solar electric technologies across the United States through a program of applied research and development, demonstration, and market transformation activities. This mission aims to diversify the Nation's electricity supply options, increase national security, and improve the environment. The SETP mission is consistent with the Energy Policy Act of 2005 and DOE's Strategic Plan.

During the past decade, worldwide demand for and production of PV energy systems has been growing at a compounded annual growth rate of more than 30%. This growth has taken place in response to government supported programs in Germany, Spain, and other countries outside the United States. This demand for PV products has the potential to also grow in the United States due to new and emerging Federal and State support programs and favorable solar conditions, as well as declining system costs. Currently, the United States, is not a major manufacturer of PV products and, therefore, not well-positioned to take advantage of this opportunity's potential to create a strong domestic industry.

The “PV Manufacturing Initiative” is intended to coordinate stakeholders and technology development efforts across the solar community to facilitate the development of a strong PV manufacturing industry in the United States. The primary goals of this initiative include supporting the creation of a robust United States-based PV manufacturing technology including infrastructure and supply chain base, developing a highly trained workforce with the critical skills required to meet the needs of a rapidly growing industry, and speeding the implementation of new cutting edge technologies.

Three separate models are currently under consideration: (1) University-led consortia guided by industry that would conduct industry-relevant manufacturing research projects; (2) collaborative industry-led consortia that will develop and implement manufacturing research projects with shared intellectual property (IP); and (3) manufacturing development efforts, possibly implemented through common facilities, for equipment and process development with individual companies maintaining exclusive ownership of IP.

Proposed Strategy

If a Funding Opportunity Announcement (FOA) is developed from this RFI, it will enable DOE to launch a major PV Manufacturing Initiative that will accelerate development and provide a strong base for a domestic United States PV industry. DOE anticipates that up to $30M may be available to fund the PV Manufacturing Initiative in the first year. Of that, DOE anticipates that approximately $5M may be devoted to a single or multiple awards for University-Led Consortia. The remaining $25M may be used to fund single or multiple awards for Collaborative Industry-led Consortia and/or Manufacturing Development Facilities.

All proposals to implement PV Manufacturing Initiative models would be evaluated according to a competitive award process. In all cases, successful proposals would be expected to maximize the number of alternative funding sources, provide geographic diversity, incorporate a broad base of the PV industry, and have a detailed plan for the management of intellectual property, consortium membership (if a consortia is proposed), and other governance issues. All PV technologies (i.e., wafer, thin film, and concentrator) and combinations of technologies may be considered. The Industry-led models (the Collaborative Industry-led Consortia and Manufacturing Development Facilities) are intended to allow the integration of universities and workforce development; likewise, the University-Led Consortia model should have strong ties to industry. All model approaches are also intended to allow for the technical participation of national laboratories, as defined in section 2 of the Energy Policy Act of 2005. Regarding financial participation, each model encourages inclusion of state economic development or other funding organizations.

Entities who apply for multiple awards should be able to demonstrate that they can complete all the work proposed.

Below are characteristics of the three models being considered to implement the goals of the PV Manufacturing Initiative.

University-Led Consortia

DOE would maintain a constant level of funding over the first 5 years for each University-Led Consortium, with the option to extend for 5 years either through an extension of the existing award, or as a subsequent competitive opportunity. Additional sources of funding would be expected by industry participants and universities. The consortia would select projects proposed by the universities in consultation with industry.

The specific problems to be addressed will be identified through rigorous planning and implementation of industry-relevant collaborative research plans. Based on the development opportunities identified, the consortia will fund development projects with the expectation of delivering new offerings to market within 2-5 years. Participation in standards or roadmap planning activities could be considered part of the scope of these consortia.

Successful consortia will provide interested graduate-level and post-doctoral students with opportunities for direct experience in research and development (R&D) projects and hands-on training in industrially viable manufacturing processes. The consortia would also address how its relationship with the PV industry is expected to produce graduates from the university that have a thorough understanding of PVs from materials to systems, excellent proficiency in device, module and system aspects of PVs, and the technical communication skills that are highly valued by the industry.

Collaborative Industry-Led Consortia

DOE support for each Collaborative Industry-Led Consortium would fund initial projects in combination with other funding sources, with the DOE share of support gradually decreasing over 5 years and industry and other parties assuming a greater share over the same time span. Additionally, it is expected that all industry participants would equitably share in the intellectual property developed through each consortium.

The specific problems to be addressed will be identified through rigorous planning and implementation of industry relevant collaborative research plans. Based on the development opportunities identified, the consortia will fund development projects with the expectation of delivering new offerings to market within 2-5 years. Because of the anticipated membership of diverse companies across the PV industry, it may be desirable for these consortia to serve as a major resource and leading contributors to industry-wide standards and roadmap development.

Manufacturing Development Facilities

DOE funding for Manufacturing Development Facilities would provide initial awards to set up the facilities, with additional funding for these facilities also expected to come through the organizing entity, user fees, equipment providers, as well as other participants. DOE funding would be gradually reduced over 1-3 years with other participants assuming a greater share. Manufacturing Development Facility awards could be executed with an organization with ties to the PV industry, industry-led consortium, or as an individual or non-related separate entity. Either new or retooled manufacturing development facilities could be established. These facilities will assist, potentially, a wide-range of PV companies in making the transition to commercial production. In contrast to the Collaborative Industry-Led Consortia, IP developed through these facilities will be owned by user companies.

Manufacturing Development Facilities could be implemented with some or all of the following characteristics: provide tools with common uses to innovate and test processing parameters; facilitate matchmaking between process innovators and the development facilities of equipment manufacturers; enable users to access process development and characterization capabilities to aid benchmarking and troubleshooting manufacturing processes; and give users access to technical expertise and manufacturing equipment to speed development of full commercial manufacturing capability.

Participation in standards or roadmap planning activities could be considered part of the scope of work for the Manufacturing Development Facility awardees.

Anticipated Award and Financial Information, if a Funding Opportunity Results From This RFI

Total Estimated Cost of the Project: $125,000,000-$200,000,000 (DOE and Cost share) depending on mix of models selected.

Total DOE Funding Anticipated: $100,000,000.

Initial Funding: $30,000,000.

Anticipated Level of Required Cost Share:

University Led Collaborative Consortia, 20%.

Collaborative Industry Led Consortia, 50%.

Manufacturing Development Facilities, 50%.

Fiscal Year of Initial Funding: FY10.

Estimated Project Period of Awards:

University-Led Consortia, 5 years.

Collaborative Industry-Led Consortia, 5 years.

Manufacturing Development Facilities, 1-3 years.

Qualifications or Restricted Eligibility:

The University-Led Consortia are restricted to domestic universities. Industry participants for the Collaborative Industry-Led Consortia must have United States-based PV research facilities and demonstrated intent for United States manufacturing within 3 years. All other participants must be United States-based organizations.

DOE Laboratory Involvement:

National laboratories may not apply as prime applicants, but may apply as team members.

Request for Information Guidelines

Respondents are asked to specifically comment on the questions below. Respondents are also encouraged to comment on the general concept, potential benefits or obstacles, the overall merits of this idea, alternatives, and the relative priority of this activity. DOE will evaluate responses to this RFI to determine the best approach to move forward.

Questions

(1) Concept:

• Please comment on the three models comprising the PV Manufacturing Initiative. How well is the problem framed, and are the models identified correct possible solutions? Will the models identified accomplish the goals of the Initiative? Are there other, more expedient approaches to achieving the goals? Should the models be modified? Do any of the models have higher priority? Are there other models that have not been discussed that should also be considered?

• What PV technologies would most likely succeed using these or other models?

• What are the most likely organizational barriers that may arise (e.g. IP sharing issues), and are there solutions DOE should consider?

(2) Benefits:

• What do you see as the greatest contributions the PV Manufacturing Initiative can make to establish a strong manufacturing base and supply chain for the United States PV industry?

(3) Eligibility:

• Do you agree with the eligibility criteria for the leads and participants for the University-Led Consortia? What about the Collaborative Industry-Led Consortia? Manufacturing Development Facilities?

• Should “for profit” consortia be considered or only non-profit entities?

• Should there be a minimum number of partners required by DOE for award or could a consortium be contained within one institution with far-reaching activity?

(4) Funding:

• Would it be better to fund more awards at lower levels or fewer awards at higher levels?

• Does the level of funding seem appropriate given the amount and type of work anticipated?

• Does the level of cost share seem appropriate?

DOE will not pay for information provided under this Request for Information (RFI), and there is no guarantee that a project will be supported as a result of this RFI. This RFI is not accepting applications for financial assistance or financial incentives.

A response to this RFI will not be viewed as a binding commitment to develop or pursue the project or ideas discussed. DOE may also decide at a later date to issue Funding Opportunity Announcements (FOAs), based on consideration of the input received from this RFI or to not issue this opportunity at all.

Respondents are requested to provide the following information at the start of their response to this RFI:

• Company/institutional name,

• Company/institutional contact,

• Type of Business or Institution,

• Address, phone number, and e-mail address,

• Brief description of the operations and mission of business or institution (several sentences will suffice).

All responses to this RFI must be delivered electronically in Microsoft Word (.doc) format as an attachment to an e-mail sent to the following e-mail address: PVManufInit@go.doe.gov. E-mails should have the subject line “PV Manufacturing Initiative Response”. Any questions about the content of this RFI must be sent to the following e-mail address: PVManufInit@go.doe.gov. E-mails should have the subject line “Question”.

Responses to this RFI must be submitted by 11:59 p.m. Eastern Time on September 30, 2009. Responses should be limited to 5 pages. However, more than one response is allowed per respondent. Please identify your answers by responding to a specific question if possible.

We welcome other comments as well. Identifying the comment with the item to which it refers will facilitate aggregating all the responses. Any information obtained as a result of this RFI is intended to be used by the Government on a non-attribution basis for program planning and procurement strategy development. Information or data that is restricted in any way or limited for use by the Government is not solicited and will not be considered. Please do not respond with any information that you deem proprietary or confidential. Responses to this RFI are not confidential and may be published publically on a non-attribution basis. DOE has no obligation to respond to those who submit comments, and/or give any feedback on any decision made based on the comments received, as there is potential for a future Funding Opportunity relative to this subject.

DOE thanks you for your assistance and comments in helping accomplish its mission.

Issued in Golden, CO, on September 4, 2009.
Andrea K. Lucero,
Contracting Officer.

[FR Doc. E9-22930 Filed 9-22-09; 8:45 am]

BILLING CODE 6450-01-P